DEPARTMENT OF LABOR

Employment and Training Administration

[TA-W-80,350]

Baby Bliss, Inc., Middleville, MI; Notice of Negative Determination Regarding Application for Reconsideration

By application received September 26, 2011, a company official requested administrative reconsideration of the negative determination regarding workers' eligibility to apply for Trade Adjustment Assistance (TAA) applicable to workers and former workers Baby Bliss, Inc., Middleville, Michigan (Baby Bliss). The determination was issued on September 2, 2011. The Department's Notice of determination was published in the Federal Register on September 19, 2011 (76 FR 58046). The workers of Baby Bliss were engaged in activities related to the production of children's clothing.

The petition (dated August 8, 2011) stated that “Pleasant Company has been a customer of ours since 1985. New owners (Mattel) took over that company and proceeded to all of the apparel and other production to a foreign country (China).”

The negative determination was based on the Department's findings that Baby Bliss did not employ a certifiable worker group during the period under investigation within the meaning of Section 222(a) or Section 222(b) of the Act.

Criterion (1) has not been met because Baby Bliss did not employ a worker group during the relevant time period. A worker group means that the firm must have at least three full-time workers during the year preceding the TAA petition date. Baby Bliss did not meet this threshold level. Further, the criteria set forth in 29 CFR 90.16(e) was not met.

In the request for reconsideration, the petitioner stated that he was “the only officer/employee who possessed the information to file this petition” and asserted that he did not file a petition earlier because he was out of the country from November 2004 through February 2008, then incarcerated from February 2008 through March 2011.

Pursuant to 29 CFR 90.18(c), administrative reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

After careful review of the request for reconsideration, previously submitted materials, the applicable statute, and relevant regulation, the Department determines that there is no new information, mistake in fact, or misinterpretation of the facts or of the law.

Conclusion

After review of the application and investigative findings, I conclude that there has been no error or misinterpretation of the law or of the facts which would justify reconsideration of the Department of Labor's prior decision. Accordingly, the application is denied.

Signed at Washington, DC, this 4th day of October, 2011.
Del Min Amy Chen,
Certifying Officer, Office of Trade Adjustment Assistance.

[FR Doc. 2011-27164 Filed 10-19-11; 8:45 am]

BILLING CODE 4510-FN-P